DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of May 16, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Pinal County, Arizona and Incorporated Areas
Docket No.: FEMA-B-1766
City of Casa Grande | 510 East Florence Boulevard, Casa Grande, AZ 85122.
City of Eloy | 626 North Main Street, Eloy, AZ 85131.
Unincorporated Areas of Pinal County | Pinal County Engineering Department, 31 North Pinal Street, Building F, Florence, AZ 85132.
Cass County, Illinois and Incorporated Areas
Docket No.: FEMA-B-1764
City of Beardstown | City Hall, 105 West Third Street, Beardstown, Illinois 62618.
Unincorporated Areas of Cass County | Cass County Courthouse, 100 East Springfield Street, Virginia, Illinois 62691.
Calcasieu Parish, Louisiana and Incorporated Areas
Docket No.: FEMA-B-1642
Unincorporated Areas of Calcasieu Parish | Planning and Development Department, 901 Lakeshore Drive, Lake Charles, LA 70601.
Charlevoix County, Michigan (All Jurisdictions)
Docket Nos.: FEMA-B-1266 & FEMA-B-1773
City of Boyne City | City Hall, 319 North Lake Street, Boyne City, MI 49712.
City of Charlevoix | City Hall, 210 State Street, Charlevoix, MI 49720.
City of East Jordan | City Hall, 201 Main Street, East Jordan, MI 49727.
Little Traverse Bay Bands of Odawa Indians | Little Traverse Bay Bands of Odawa Indians, Government Center, 7500 Odawa Circle, Harbor Springs, MI 49740.
Township of Bay | Bay Township Hall, 05045 Boyne City Road, Boyne City, MI 49712.
Township of Boyne Valley | Boyne Valley Township Hall, 2489 Railroad Street, Boyne Falls, MI 49713.
Township of Charlevoix | Charlevoix Township Hall, 12491 Waller Road, Charlevoix, MI 49720.
Township of Evangeline | Evangeline Township Hall, 02746 Wildwood Harbor Road, Boyne City, MI 49712.
Township of Eveline | Eveline Township Hall, 08525 Ferry Road, East Jordan, MI 49727.
Township of Hayes | Hayes Township Hall, 09195 Old U.S. Highway 31 North, Charlevoix, MI 49720.
Township of Marion | Township of Marion, Charlevoix Public Library, 220 West Clinton Street, Charlevoix, MI 49720.
Township of Melrose | Melrose Township Hall, 4289 Michigan 75 Highway North, Walloon Lake, MI 49796.
Township of Norwood | Norwood Township Hall, 19759 Lake Street, Charlevoix, MI 49720.
Township of Peaine | Peaine Township Hall, 36825 Kings Highway, Beaver Island, MI 49782.
Township of South Arm | South Arm Township Hall, 2811 South Michigan 66, East Jordan, MI 49727.
Township of St. James | Township of St. James Government Center, 37830 Kings Highway, Beaver Island, MI 49782.
Hughes County, Oklahoma and Incorporated Areas
Docket No.: FEMA-B-1769
City of Holdenville | City Hall, 100 North Creek Street, Holdenville, OK 74848.
City of Wetumka | City Hall, 202 North Main Street, Wetumka, OK 74883.
Town of Allen | Town Hall, 216 East Broadway Street, Allen, OK 74825.
Town of Atwood | Hughes County Emergency Management Director's Office, 200 North Broadway Street, Holdenville, OK 74848.
Town of Calvin | Hughes County Emergency Management Director's Office, 200 North Broadway Street, Holdenville, OK 74848.
Town of Dustin | Town Hall, 117 North Broadway Avenue, Dustin, OK 74839.
Town of Horntown | Horntown Fire Department, 3319 Highway 75, Holdenville, OK 74848.
Town of Lamar | Hughes County Emergency Management Director's Office, 200 North Broadway Street, Holdenville, OK 74848.
Town of Spaulding | Hughes County Emergency Management Director's Office, 200 North Broadway Street, Holdenville, OK 74848.
Town of Stuart | Town Hall, 834 Roosevelt Avenue, Stuart, OK 74570.
Unincorporated Areas of Hughes County | Hughes County Emergency Management Director's Office, 200 North Broadway Street, Holdenville, OK 74848.
Lincoln County, Oklahoma and Incorporated Areas
Docket No.: FEMA-B-1638
Kickapoo Tribe of Oklahoma | Kickapoo Tribe of Oklahoma, Secondary Administration Building, 400 North Highway 102, McLoud, OK 74851.
Unincorporated Areas of Lincoln County | Lincoln County Courthouse, 811 Manvel Avenue, Suite 4, Chandler, OK 74834.
McIntosh County, Oklahoma and Incorporated Areas
Docket No.: FEMA-B-1769
City of Checotah | City Hall, 414 West Gentry Avenue, Checotah, OK 74426.
City of Eufaula | City Hall, 64 Memorial Drive, Eufaula, OK 74432.
Unincorporated Areas of McIntosh County | McIntosh County Clerk's Office, 110 North 1st Street, Eufaula, OK 74432.
Pottawatomie County, Oklahoma and Incorporated Areas
Docket No.: FEMA-B-1769
City of McLoud | City Hall, 402 East Broadway, McLoud, OK 74851.
City of Shawnee | City Hall Annex Building, 222 North Broadway Avenue, Shawnee, OK 74801.
City of Tecumseh | City Hall, 114 North Broadway Street, Tecumseh, OK 74873.
Town of Bethel Acres | Bethel Acres Town Hall, 18101 Bethel Road, Shawnee, OK 74801.
Town of Earlsboro | Town Hall, 110 South Lamar Avenue, Earlsboro, OK 74840.
Town of Johnson | Pottawatomie County Courthouse, 325 North Broadway Street, Shawnee, OK 74801.
Absentee-Shawnee Tribe of Indians of Oklahoma | Absentee-Shawnee Tribal Complex, 2025 South Gordon Cooper Drive, Shawnee, OK 74801.
Citizen Potawatomi Nation | Citizen Potawatomi Nation Transportation Building, 405 Transportation Drive, Shawnee, OK 74801.
Kickapoo Tribe of Oklahoma | Kickapoo Tribe of Oklahoma Secondary Administration Building, 400 North Highway 102, McLoud, OK 74851.
Sac and Fox Nation | Sac and Fox Nation Administration Building, 920883 South Highway 99, Building A, Stroud, OK 74079.
Unincorporated Areas of Pottawatomie County | Pottawatomie County Courthouse, 325 North Broadway Street, Shawnee, OK 74801.
Waller County, Texas and Incorporated Areas
Docket No.: FEMA-B-1753
City of Hempstead | City Hall, 1125 Austin Street, Hempstead, TX 77445.
City of Prairie View | City Hall, 44500 Business Highway 290, Prairie View, TX 77446.
Unincorporated Areas of Waller County | Waller County Road and Bridge Department, 775 Business Highway 290 East, Hempstead, TX 77445.
Washington County, Texas and Incorporated Areas
Docket No.: FEMA-B-1753
Unincorporated Areas of Washington County | Washington County Courthouse Annex, 105 West Main Street, Suite 100, Brenham, TX 77833.

[FR Doc. 2019-03367 Filed 2-26-19; 8:45 am]

BILLING CODE 9110-12-P